DEPARTMENT OF COMMERCE

International Trade Administration

(A-427-818)

Low Enriched Uranium from France: Notice of Court Decision and Suspension of Liquidation

AGENCY: Import Administration, International Trade Administration, Department of Commerce.

SUMMARY: On August 3, 2006, the United States Court of International Trade (“CIT”) sustained the Department of Commerce's (“the Department's”) June 19, 2006, Final Results of Redetermination on Remand pursuant to Eurodif S.A., et. al. v. United States, Consol. Ct. No. 02-00219, Slip. Op. 06-75 (CIT May 18, 2006) (“LEU Remand Redetermination”), which pertains to the Antidumping Duty Order on Low Enriched Uranium (“LEU”) from France.

Consistent with the decision of the U.S. Court of Appeals for the Federal Circuit (“CAFC”) in Timken Co. v. United States, 893 F.2d 337 (Fed. Cir. 1990) (“Timken”), the Department is notifying the public that this decision is “not in harmony” with the Department's original determination and will continue to order the suspension of liquidation of the subject merchandise, where appropriate, until there is a conclusive decision in this case. If the case is not appealed, or if it is affirmed on appeal, the Department will instruct U.S. Customs and Border Protection to liquidate all relevant entries from Eurodif S.A./Compagnie Generale Des Matieres Nucleaires (collectively, “Eurodif” or “respondents”).

EFFECTIVE DATE: September 11, 2006.

FOR FURTHER INFORMATION CONTACT: Mark Hoadley or Myrna Lobo, AD/CVD Operations, Office 6, Import Administration, International Trade Administration, U.S. Department of Commerce, 14th Street and Constitution Avenue, N.W., Washington, DC 20230; telephone: (202) 482-3148 or (202) 482-2371, respectively.

SUPPLEMENTARY INFORMATION:

Background

On December 21, 2001, the Department published a notice of final determination in the antidumping duty investigation of LEU from France. See Notice of Final Determination of Sales at Less Than Fair Value: Low Enriched Uranium From France, 66 FR 65877 (Dec. 21, 2001) (“LEU Final Determination”). On February 13, 2002, the Department published in the Federal Register an amended final determination and antidumping duty order on LEU from France. See Notice of Amended Final Determination of Sales at Less Than Fair Value and Antidumping Duty Order: Low Enriched Uranium From France, 67 FR 6680 (Feb. 13, 2002).

Respondents challenged the Department's final determination before the CIT. The case was later appealed and the CAFC, in Eurodif S.A., Compagnie Generale Des Matieres Nucleaires, and Cogema Inc., et. al. v. United States, 411 F.3d 1355 (Fed. Cir. 2005) (“Eurodif I”), ruled in favor of respondents. The CAFC later clarified its ruling, issuing a decision in Eurodif S.A., Compagnie Generale Des Matieres Nucleaires, and Cogema Inc., et. al. v. United States, 423 F. 3d. 1275 (Fed. Cir. 2005) (“Eurodif II”).

On January 5, 2006, the CIT remanded the case to the Department for action consistent with the decisions of the Federal Circuit in Eurodif I and Eurodif II. See Eurodif S.A., Compagnie Generale Des Matieres Nucleaires, and Cogema Inc. et. al. v. United States, Slip. Op. 06-2 (CIT Jan. 5, 2006). Specifically, the CIT directed the Department to revise its final determination and antidumping duty order to conform with the decisions in Eurodif I and Eurodif II.

On March 3, 2006, the Department issued its results of redetermination and recalculated the antidumping duty rate applicable to Eurodif, to comply with the decisions of Eurodif I and Eurodif II. On May 18, 2006, the CIT again remanded the case to the Department to exclude certain entries from the scope of the order. On June 19, 2006, the Department issued its final results of redetermination pursuant to court remand (“LEU Remand Redetermination”). On August 3, 2006, the CIT sustained the Department's redetermination. See Eurodif S.A., Compagnie Generale Des Matieres Nucleaires, and Cogema Inc. et. al. v. United States, Slip. Op. 06-124 (CIT August 3, 2006).

Suspension of Liquidation

The CAFC in Timken held that, pursuant to 19 USC 1516(e), the Department must publish notice of a decision of the CIT or the CAFC, which is not “in harmony” with the Department's final determination or results. Publication of this notice fulfills that obligation. The Federal Circuit also held that the Department must suspend liquidation of the subject merchandise until there is a “conclusive” decision in the case. Therefore, pursuant to Timken, the Department must continue to suspend liquidation pending the expiration of the period to appeal the CIT's August 3, 2006, decision.

In the event that the CIT's ruling is not appealed, or if appealed, it is upheld, the Department will publish amended final results and liquidate relevant entries covering the subject merchandise.

Dated: September 5, 2006.
David M. Spooner,
Assistant Secretary for Import Administration.

[FR Doc. E6-15000 Filed 9-8-06; 8:45 am]

BILLING CODE 3510-DS-S